DEPARTMENT OF COMMERCE

National Oceanic and Atmospheric Administration

RIN 0648-XG083

New England Fishery Management Council; Public Meeting

AGENCY: National Marine Fisheries Service (NMFS), National Oceanic and Atmospheric Administration (NOAA), Commerce.

ACTION: Notice of change of times of public meeting webinar.

SUMMARY: The New England Fishery Management Council's is convening an ad-hoc sub-panel of its Scientific and Statistical Committee to peer review two reports.

DATES: This webinar will be held on Friday, March 30, 2018, at 1 p.m. and will end at 4 p.m.

ADDRESSES: Webinar registration URL information: https://attendee.gotowebinar.com/register/7860925786623688961. Call in information: +1 (951) 384-3421, Attendee Access Code: 937-123-775.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The meeting was previously scheduled for 1:30 to 4 p.m. It will now begin at 1 p.m. and end at 4 p.m. The original notice published in the Federal Register on March 12, 2018 (83 FR 10678). All other previously published information remains unchanged.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 13, 2018.
Jeffrey N. Lonergan,
Acting Deputy Director, Office of Sustainable Fisheries, National Marine Fisheries Service.

[FR Doc. 2018-05397 Filed 3-15-18; 8:45 am]

BILLING CODE 3510-22-P